DEPARTMENT OF COMMERCE

International Trade Administration

[A-821-838]

Ferrosilicon From the Russian Federation: Final Affirmative Determination of Sales at Less Than Fair Value and Final Affirmative Determination of Critical Circumstances

AGENCY: Enforcement and Compliance, International Trade Administration, Department of Commerce.

SUMMARY: The U.S. Department of Commerce (Commerce) determines that ferrosilicon from the Russian Federation (Russia) is being, or is likely to be, sold in the United States at less than fair value (LTFV) during the period of investigation (POI) July 1, 2023, through December 31, 2023.

DATES: Applicable September 18, 2024.

FOR FURTHER INFORMATION CONTACT: Jacob Saude, AD/CVD Operations, Office VII, Enforcement and Compliance, International Trade Administration, U.S. Department of Commerce, 1401 Constitution Avenue NW, Washington, DC 20230; telephone: (202) 482-0981.

SUPPLEMENTARY INFORMATION:

Background

On June 28, 2024, Commerce published the Preliminary Determination in this LTFV investigation in the Federal Register.¹ On July 22, 2024, Commerce tolled certain deadlines in these administrative proceedings by seven days.² The deadline for the final determination is now September 11, 2024. We only received comment on the Preliminary Determination from CC Metals and Alloys, LLC and Ferroglobe USA, Inc. (collectively, the petitioners), in which the petitioners argued that lack of participation in this investigation should lead Commerce to reach the same conclusion for the final determination as it did in the Preliminary Determination.³ Subsequently, on August 28, 2024, Commerce published its Preliminary Critical Circumstances Determination in the Federal Register and invited interested parties to comment.⁴ No interested party submitted comments on the Preliminary Critical Circumstances Determination. Accordingly, we did not make any changes to our Preliminary Determination and there is no decision memorandum accompanying this Federal Register notice.

¹ See Ferrosilicon from the Russian Federation: Preliminary Affirmative Determination of Sales at Less Than Fair Value, 89 FR 53953 (June 28, 2024) (Preliminary Determination).

² See Memorandum, “Tolling of Deadlines for Antidumping and Countervailing Duty Proceedings,” dated July 22, 2024.

³ See Petitioners' Letter, “Petitioners' Comments in Lieu of Case Brief,” dated July 29, 2024; see also Preliminary Determination and Preliminary Decision Memorandum.

⁴ See Ferrosilicon from the Russian Federation: Preliminary Affirmative Critical Circumstances Determinations, 89 FR 68860 (August 28, 2024) (Preliminary Critical Circumstances Determination).

Scope of the Investigation

The product covered by this investigation is ferrosilicon from Russia. For a full description of the scope of this investigation, see the appendix to this notice.

Scope Comments

On August 28, 2024, CC Metals and Alloys, LLC and Ferroglobe USA, INC. (collectively, the petitioners) filed a clarification of the scope language in which the petitioner noted that there was a word missing in the scope language (i.e., in the Petition and the Initiation Notice, the first paragraph of the scope stated: “10 percent or less any other element” and should read “10 percent or less of any other element”).⁵

⁵ See Petitioners' Letter, “Clarification of Scope Language,” dated August 28, 2024; see also Ferrosilicon from Brazil, Kazakhstan, Malaysia, and the Russian Federation: Initiation of Less-Than-Fair-Value Investigations, 89 FR 31137 (April 24, 2024) (Initiation Notice).

Use of Adverse Facts Available (AFA)

Pursuant to section 776(a) and (b) of the Tariff Act of 1930, as amended (the Act), we have continued to base the dumping margin for the Russia-wide entity, upon facts otherwise available, with adverse inferences, because Russian producers/exporters of subject merchandise during the POI, now part of the Russia-wide entity, failed to respond to Commerce's requests for information.⁶

⁶ See Preliminary Determination.

Final Affirmative Determination of Critical Circumstances

In the Preliminary Critical Circumstances Determination, Commerce preliminary determined, in accordance with sections 733(e) of the Act and 19 CFR 351.206, that critical circumstances exist with respect to all imports of subject merchandise from Russia produced or exported by the Russia-wide entity.⁷ For this final determination, in accordance with section 735(a)(3) of the Act, Commerce continues to find that critical circumstances exist with respect to all imports of subject merchandise from Russia produced or exported by the Russia-wide entity.

⁷ See Preliminary Critical Circumstances Determination.

Combination Rates

In the Preliminary Determination, we stated that because no respondent applied for a separate rate, we did not calculate producer/exporter combination rates in accordance with our practice.⁸ This remains unchanged for the final determination.

⁸ See Preliminary Determination, 89 FR at 53953; see also Enforcement and Compliance's Policy Bulletin No. 05.1, regarding, “Separate-Rates Practice and Application of Combination Rates in Antidumping Investigations involving Non-Market Economy Countries,” (April 5, 2005) (Policy Bulletin 05.1), available on Commerce's website at https://enforcement.trade.gov/policy/bull05-1.pdf.

Final Determination

Commerce determines that the following estimated weighted-average dumping margins exist:

Exporter | Estimated weighted- average dumping margin (percent) | Cash deposit rate adjusted for subsidy offset (percent)
Russia-Wide Entity | * 283.27 | 283.27
* Rate based on AFA.

Disclosure

Normally, Commerce discloses to parties to the proceeding the calculations performed in connection with a final determination within five days of any public announcement of the final determination or, if there is no public announcement, within five days of the date of publication of the notice of the final determination in the Federal Register, in accordance with 19 CFR 351.224(b). However, because Commerce based the sole respondent's dumping margin on the Petition rate, there are no calculations to disclose.

Continuation of Suspension of Liquidation

Commerce will direct U.S. Customs and Border Protection (CBP) to continue to suspend liquidation of entries of the merchandise described in the scope of this investigation where that merchandise was entered, or withdrawn from warehouse, for consumption on or after June 28, 2024, which is the date of publication of the Preliminary Determination in this investigation in the Federal Register. Because we preliminarily determined that critical circumstances exist with respect to the Russia-wide entity, we instructed CBP to suspend such entries on or after April 24, 2024, the date of publication of the initiation notice in the Federal Register.⁹ Pursuant to section 733(d)(1)(B) of the Act and 19 CFR 351.205(d), Commerce will also instruct CBP to require the posting of an antidumping duty cash deposit.

⁹ See Preliminary Critical Circumstances Determination. We note that the Preliminary Critical Circumstances Determination indicated March 30, 2024, as the start of the suspension of liquidation. However, pursuant to section 703(e)(2) of the Act, the correct date for the start of suspension of liquidation is April 24, 2024, which is the date of publication of the Initiation Notice.

Commerce normally adjusts estimated weighted-average dumping margins determined in an LTFV investigation by the amount of the export subsidies countervailed in a companion countervailing duty (CVD) investigation to determine the antidumping duty cash deposit rates. Because there is a companion CVD investigation in this case,¹⁰ we offset the estimated weighted-average dumping margins listed in the table above by the appropriate export subsidy rate to derive the cash deposit rates listed in the table.

¹⁰ See unpublished Federal Register notice for Ferrosilicon from the Russian Federation: Final Affirmative Countervailing Duty Determination and Final Affirmative Determination of Critical Circumstances, dated concurrently with this notice.

Should the provisional measures in the companion CVD investigation expire prior to the expiration of provisional measures in this LTFV investigation, Commerce will direct CBP to begin collecting estimated antidumping duty cash deposits equal to the estimated weighted-average dumping margins listed in the table above.

The cash deposit requirements are as follows: (1) the cash deposit rate for the Russian Federation is the cash deposit rate listed for that company in the table above; (2) if the exporter of the subject merchandise is not identified in the table above, but the producer is, then the cash deposit rate will be equal to the company-specific cash deposit rate established for the producer of the subject merchandise; and (3) the cash deposit rate for all other producers and exporters will be equal to the all-others cash deposit rate listed in the table above.

In accordance with section 703(d) of the Act, we will instruct CBP to discontinue the suspension of liquidation of all entries of subject merchandise entered or withdrawn from warehouse, on or after October 25, 2024, the final day of provisional measures.

U.S. International Trade Commission Notification

In accordance with section 735(d)) of the Act, Commerce will notify the U.S. International Trade Commission (ITC) of its final affirmative determination of sales at LTFV. Because the final determination in this proceeding is affirmative, in accordance with sections 735(b)(2)) and 777(i)(1) of the Act, the ITC will make its final determination as to whether the domestic industry in the United States is materially injured, or threatened with material injury, before the later of 120 days after the date that Commerce made its affirmative preliminary determination in this investigation or 45 days after the date of this final determination. If the ITC determines that material injury, or the threat of material injury, does not exist, the proceeding will be terminated, and all cash deposits will be refunded. If the ITC determines that material injury, or the threat of material injury, exists, Commerce will issue an antidumping duty order directing CBP to assess, upon further instruction by Commerce, antidumping duties on all imports of the subject merchandise, entered, or withdrawn from warehouse, for consumption on or after the effective date of the suspension of liquidation.

Administrative Protective Order

This notice serves as the only reminder to parties subject to an administrative protective order (APO) of their responsibility concerning the disposition of proprietary information disclosed under APO in accordance with 19 CFR 351.305(a)(3). Timely notification of the return, or destruction, of APO materials, or conversion to judicial protective order, is hereby requested. Failure to comply with the regulations and the terms of an APO is a violation subject to sanction.

Notification to Interested Parties

This determination is being issued and published in accordance with sections 735(d) and 777(i)(1) of the Act, and 19 CFR 351.210(c).

Dated: September 11, 2024.
Ryan Majerus,
Deputy Assistant Secretary for Policy and Negotiations, performing the non-exclusive functions and duties of the Assistant Secretary for Enforcement and Compliance.

Appendix

Scope of the Investigation

The scope of this investigation covers all forms and sizes of ferrosilicon, regardless of grade, including ferrosilicon briquettes. Ferrosilicon is a ferroalloy containing by weight four percent or more iron, more than eight percent but not more than 96 percent silicon, three percent or less phosphorus, 30 percent or less manganese, less than three percent magnesium, and 10 percent or less of any other element. The merchandise covered also includes product described as slag, if the product meets these specifications.

Subject merchandise includes material matching the above description that has been finished, packaged, or otherwise processed in a third country, including by performing any grinding or any other finishing, packaging, or processing that would not otherwise remove the merchandise from the scope of the investigation if performed in the country of manufacture of the ferrosilicon.

Ferrosilicon is currently classifiable under subheadings 7202.21.1000, 7202.21.5000, 7202.21.7500, 7202.21.9000, 7202.29.0010, and 7202.29.0050 of the Harmonized Tariff Schedule of the United States (HTSUS). While the HTSUS numbers are provided for convenience and customs purposes, the written description of the scope remains dispositive.

[FR Doc. 2024-21175 Filed 9-17-24; 8:45 am]

BILLING CODE 3510-DS-P